DEPARTMENT OF TRANSPORTATION

Federal Railroad Administration

[Docket Number FRA-2024-0070]

Petition for Waiver of Compliance

Under part 211 of title 49 Code of Federal Regulations (CFR), this document provides the public notice that on June 7, 2024, TOYX, Inc. (TOYX) petitioned the Federal Railroad Administration (FRA) for a special approval pursuant to 49 CFR part 215 (Railroad Freight Car Safety Standards), and a waiver of compliance from 49 CFR part 223 (Safety Glazing Standards—Locomotives, Passenger Cars and Cabooses). FRA assigned the petition Docket Number FRA-2024-0070.

Specifically, TOYX requests a special approval pursuant to § 215.203, Restricted cars, for 6 cars and 4 cabooses that are more than 50 years from the dates of original construction. TOYX also seeks relief from 49 CFR part 223 for safety glazing on the 4 cabooses (and 1 car, TOYX 1001, if required) to operate the equipment for a few days per year on the New York, Susquehanna & Western Railway, Metro-North Railroad, and in equipment moves. In the petition, TOYX states that the equipment for which glazing relief is requested will travel on “lines that are regularly operated and maintained and have no known risk of propelled or fouling objects.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at www.regulations.gov. Follow the online instructions for submitting comments.

Communications received by December 9, 2024 will be considered by FRA before final action is taken. Comments received after that date will be considered if practicable. Anyone can search the electronic form of any written communications and comments received into any of the U.S. Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-23336 Filed 10-8-24; 8:45 am]

BILLING CODE 4910-06-P